FEDERAL COMMUNICATIONS COMMISSION

47 CFR Part 73

[DA 00-943; MM Docket No. 00-72; RM-9853]

Radio Broadcasting Services; Covelo, CA

AGENCY: Federal Communications Commission.

ACTION: Proposed rule.

SUMMARY: This document requests comments on a petition for rule making filed by Round Valley Unified School District, requesting the allotment of Channel 245A to Covelo, California, as that community's first local aural transmission service. Coordinates used for this proposal are 39-47-42 NL and 123-14-54 WL.

DATES: Comments must be filed on or before June 19, 2000, and reply comments on or before July 5, 2000.

ADDRESSES: Secretary, Federal Communications Commission, Washington, DC 20554.

In addition to filing comments with the FCC, interested parties should serve the petitioner, as follows: Round Valley Unified School District, Attn: Andrea Harris, Superintendent, Howard & High Streets, Covelo, CA 95428.

FOR FURTHER INFORMATION CONTACT: Nancy Joyner, Mass Media Bureau, (202) 418-2180.

SUPPLEMENTARY INFORMATION: This is a synopsis of the Commission's Notice of Proposed Rule Making, MM Docket No. 00-72, adopted April 19, 2000, and released April 28, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

Federal Communications Commission.
John A. Karousos,
Chief, Allocations Branch, Policy and Rules Division, Mass Media Bureau.

[FR Doc. 00-11656 Filed 5-9-00; 8:45 am]

BILLING CODE 6712-01-P